DEPARTMENT OF TRANSPORTATION

Federal Aviation Administration

Public Notice for Waiver of Aeronautical Land-Use Assurance; Muskegon County Airport, Muskegon, MI

AGENCY: Federal Aviation Administration, DOT.

ACTION: Notice of intent of waiver with respect to land.

SUMMARY: The Federal Aviation Administration (FAA) is considering a proposal to change a portion of the airport from aeronautical use to non-aeronautical use and to authorize the sale of the airport property. The vacant parcel is 33′ by 960′ (approximately 0.73 acres) lies on the south side of Porter Road between Martin and Henry Streets in Norton Shores, Michigan. The land was acquired under FAA Project No. 9-20-0071-01. There are no impacts to the airport by allowing the airport to dispose of the property. Since the purchase of this parcel, the parcel has sat vacant. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before October 11, 2006.

FOR FURTHER INFORMATION CONTACT: Melanie Laud, Program Manager, 11677 South Wayne Road, Suite 107, Romulus, Michigan 48174. Telephone Number (734) 229-2929, Fax (734) 229-2950. Documents reflecting this FAA action may be reviewed at this same location or at Muskegon County Airport, Muskegon, Michigan.

SUPPLEMENTARY INFORMATION: Following is a legal description of the property located in Norton Shores, Muskegon County, Michigan, and described as follows: The southerly 33 ft of the following described parcel: Commence at a point on the North ⅛th line of Section 19, 1,713 5/12 ft East of the North ⅛th post on the West line of said section; thence South to a point on the East/West ¼ line of said section 1,680 ft East of the West ¼ post; thence East on the East/West ¼ line to center post of said Section 19; thence North on North/South ¼ line of said section to West ⅛th line of said section; thence West along said ⅛th line to point of beginning. Section 19, Town 8 North, Range 16 West, City of Norton Shores, Muskegon County, Michigan.

Dated: Issued in Romulus, Michigan on August 24, 2006.
Irene R. Porter,
Manager, Detroit Airports District Office, FAA, Great Lakes Region.

[FR Doc. 06-7525 Filed 9-8-06; 8:45 am]

BILLING CODE 4910-13-M